POSTAL SERVICE

39 CFR Part 111

Eligibility for Commercial Flats Failing Deflection

AGENCY: Postal Service™.

ACTION: Proposed rule.

SUMMARY: The Postal Service is filing this proposed rule to describe the applicable prices for commercial flat-size mail failing to meet new deflection standards, to be effective on June 7, 2010.

DATES: We must receive your comments on or before January 13, 2010.

ADDRESSES: Mail or deliver written comments to the Manager, Mailing Standards, U.S. Postal Service, 475 L'Enfant Plaza SW., Room 3436, Washington, DC 20260-3436. You may inspect and photocopy all written comments at USPS Headquarters Library, 475 L'Enfant Plaza SW., 11th Floor N, Washington, DC between 9 a.m. and 4 p.m., Monday through Friday. Email comments concerning the proposed price eligibility, containing the name and address of the commenter, may be sent to: MailingStandards@usps.gov, with a subject line of “Deflection comments.” Faxed comments are not accepted.

FOR FURTHER INFORMATION CONTACT: Bill Chatfield, 202-268-7278.

SUPPLEMENTARY INFORMATION: The Postal Service's final rule for new mailing standards to be effective in May 2009 was published in the Federal Register (74 FR 15380-15384) on April 6, 2009. The final rule included new deflection standards, previously applicable only to automation flats, for all commercial flat-size mail. The implementation of the new deflection standards was postponed from the May 2009 date and is being deferred further to June 2010. In this notice we provide background, a reiteration of the changes and revision to the applicable prices for pieces that do not meet the deflection standard, followed by changes to the mailing standards in Mailing Standards of the United States Postal Service, Domestic Mail Manual (DMM®).

Background

As a reminder, the USPS® changed the deflection standards in 2007 by increasing the permitted deflection to 4 inches for flat pieces that were at least 10 inches long. The difficulties in processing flats that came close to that new maximum deflection made it clear that the change was too great to allow successful processing and handling of flats with a 4 inch maximum deflection. In a notice published in the DMM Advisory on August 18, 2009, we announced a further deferral of the implementation date of the revised deflection standard. The additional delayed implementation date of June 7, 2010 offers mailers the opportunity to make changes to slightly stiffen or redesign their “droopy” flats to meet the new standards.

New Standards

In the final rule published in the Federal Register (74 FR 15380-15384) on April 6, 2009, we extended the deflection standards, currently applicable to automation flats, to all commercial flat-size mailpieces, except those mailed at saturation and high-density Periodicals or Standard Mail® prices. The deflection standards also changed to allow 1 inch less of vertical deflection (droop) than is currently allowed. We eliminated the current exception for oblong flats (those with a bound edge on the shorter side) so all flats will be tested with the length placed perpendicular to the edge of a flat surface.

Applicable Prices

According to the original final rule in April 2009, parcel prices would apply to First-Class Mail®, Standard Mail (option for Not Flat-Machinable (NFM) prices) and Bound Printed Matter flat-size pieces not meeting the new deflection standards. Due to changes in the pricing structure implemented on May 11, 2009, for Standard Mail NFMs and parcels, those prices do not align directly with Standard Mail flats prices. Although eligibility for Periodicals flats failing deflection was not specifically discussed, current standards would exempt Periodicals flats categorized as nonmachinable and mailed to outside county addresses from the deflection standards. Since First-Class Mail single-piece flats are not subject to deflection standards, mailers of commercial First-Class Mail flats that do not meet the deflection standard would have the option of presorted parcel or single-piece flats prices.

Customers have expressed concerns about the potential additional postage due for pieces failing the deflection standard. Based on these concerns and to align with other quality efforts, the Postal Service has determined to change the price eligibilities applicable for pieces that fail the deflection standard. Generally, the price eligibilities proposed represent prices less than the parcel or NFM prices originally published.

For commercial flats that fail the deflection standard, price eligibility by class of mail is described in the tables below. For all classes of mail, if the mailing is determined not to meet the deflection standard, the sortation for failed pieces may remain as prepared.

First-Class Mail Automation
Eligibility as planned or presented: | Eligibility with failed deflection:
Automation 5-digit flat | Presorted flat.
Automation 3-digit | Presorted flat.
Automation ADC | Presorted flat.
Automation MADC | Presorted flat.
First-Class Mail Presorted (nonautomation)
Eligibility as planned or presented: | Eligibility with failed deflection:
Presorted flat | Single-piece flat or presorted parcel.
Periodicals Outside County
Piece price eligibility as planned or presented: | Piece price eligibility with failed deflection:
Basic carrier route flat | Machinable nonbarcoded or barcoded 5-digit flat.
Machinable barcoded 5-digit flat | Nonmachinable barcoded 5-digit flat.
Machinable barcoded 3-digit flat | Nonmachinable barcoded 3-digit flat.
Machinable barcoded ADC flat | Nonmachinable barcoded ADC flat.
Machinable barcoded MADC flat | Nonmachinable barcoded MADC flat.
Machinable nonbarcoded 5-digit flat | Nonmachinable nonbarcoded 5-digit flat.
Machinable nonbarcoded 3-digit flat | Nonmachinable nonbarcoded 3-digit flat.
Machinable nonbarcoded ADC flat | Nonmachinable nonbarcoded ADC flat.
Machinable nonbarcoded MADC flat | Nonmachinable nonbarcoded MADC flat.
Nonmachinable barcoded or nonbarcoded flat | Price claimed, if otherwise eligible.
Periodicals In-County
Piece price eligibility as planned or presented: | Piece price eligibility with failed deflection:
Basic carrier route flat | Nonautomation or automation (if barcoded) 5-digit flat.
Automation 5-digit flat | Nonautomation 5-digit flat.
Automation 3-digit flat | Nonautomation 3-digit flat.
Automation basic flat | Nonautomation basic flat.
Standard Mail
Eligibility as planned or presented: | Eligibility with failed deflection:
Basic carrier route flat | Nonautomation 5-digit flat.
Automation 5-digit flat | Nonautomation 5-digit flat.
Automation 3-digit flat | Nonautomation 3-digit flat.
Automation ADC flat | Nonautomation ADC flat.
Automation MADC flat | Nonautomation MADC flat.
Nonautomation flat (all sort levels) | Nonautomation MADC flat.
Bound Printed Matter
Eligibility as planned or presented: | Eligibility with failed deflection:
Carrier route flat | Carrier route parcel.
Barcoded presorted flat | Presorted parcel.
Nonbarcoded presorted flat | Presorted parcel.
Nonbarcoded nonpresorted flat | Price as claimed, if otherwise eligible.

Although we are exempt from the notice and comment requirements of the Administrative Procedure Act [5 U.S.C of 553(b), (c)] regarding proposed rulemaking by 39 U.S.C. 410(a), we invite public comments on the following proposed revisions to Mailing Standards of the United States Postal Service, Domestic Mail Manual (DMM), incorporated by reference in the Code of Federal Regulations. See 39 CFR Part 111.

List of Subjects in 39 CFR Part 111

Administrative practice and procedure, Postal Service.

Accordingly, 39 CFR Part 111 is proposed to be amended as follows:

PART 111—[AMENDED]

1. The authority citation for 39 CFR Part 111 continues to read as follows:

Authority: 5 U.S.C. 552(a); 39 U.S.C. 101, 401, 403, 404, 414, 416, 3001-3011, 3201-3219, 3403-3406, 3621, 3622, 3626, 3632, 3633, and 5001.

2. Revise the following sections of Mailing Standards of the United States Postal Service, Domestic Mail Manual (DMM), as follows:

* * * * *

300 Commercial Mail Flats

301 Physical Standards

1.0 Physical Standards for Flats

* * * * *

[Renumber current 1.7 as new 1.9. Renumber current 301.3.2.3 in its entirety as new 1.7, revise heading and text to extend maximum deflection standards to all flat-size mailpieces, and delete item c as follows:]

1.7 Maximum Deflection for Flat-Size Mailpieces

Flat-size mailpieces must be flexible (see 1.3) and must meet maximum deflection standards. Flat-size pieces mailed at saturation or high-density carrier route prices are not required to meet these deflection standards. Test deflection as follows:

a. For pieces 10 inches or longer (see Exhibit 1.7a):

1. Place the piece on a flat surface with the address side facing up and the length perpendicular to the edge of the surface, and extend the piece 5 inches off the edge of the surface. Test square bound flats by placing the bound edge parallel to the edge. Turn the piece around 180 degrees and repeat the process.

2. The piece is mailable at flat prices if it does not droop more than 3 inches vertically at either end.

Exhibit 1.7a Deflection Test—Flats 10 Inches or Longer

[Placeholder for new exhibit.]

b. For pieces less than 10 inches long (see Exhibit 1.7b):

1. Place the piece on a flat surface with the address side facing up and the length perpendicular to the edge of the surface, and extend the piece one-half of its length off the edge of the surface. Test square bound flats by placing the bound edge parallel to the edge. Turn the piece around 180 degrees and repeat the process.

2. The piece is mailable at flat prices if it does not droop more than 2 inches less than the extended length. For example, a piece 8 inches long would extend 4 inches off a flat surface. It must not droop more than 2 inches vertically at either end.

Exhibit 1.7b Deflection Test—Flats Less Than 10 Inches Long

[Placeholder for new exhibit.]

[Add new 1.8 to read as follows:]

1.8 Eligibility for Flat-Size Pieces Not Meeting Deflection Standards

Commercial flat-size mailpieces that do not meet the deflection standards in 1.7 must pay applicable prices as follows:

a. First-Class Mail—price claimed:

1. Automation flats: pay presorted flats prices.

2. Nonautomation flats: pay presorted parcel prices or single-piece flats prices, at the mailer's option.

b. Periodicals—price claimed:

1. Outside County noncarrier route flats: pay nonmachinable flats piece prices, as allowed under 707.26.0.

2. Outside County basic carrier route flats: pay 5-digit machinable flats piece prices.

3. In-County noncarrier route flats: pay nonautomation flats piece prices.

4. In-County basic carrier route flats: pay 5-digit flats piece prices.

c. Standard Mail—price claimed:

1. Automation flats: pay nonautomation flats prices at same sort level.

2. Nonautomation noncarrier route flats: pay mixed ADC flats prices regardless of sort level.

3. Basic carrier route flats: pay 5-digit nonautomation flats prices.

d. Bound Printed Matter—parcel prices.

e. In all cases above, pieces may remain sorted as per price originally claimed, if otherwise eligible.

* * * * *

We will publish an appropriate amendment to 39 CFR Part 111 to reflect these changes if our proposal is adopted.

Stanley F. Mires,
Chief Counsel, Legislative.

[FR Doc. E9-29612 Filed 12-11-09; 8:45 am]

BILLING CODE 7710-12-P